DEPARTMENT OF LABOR

Employment and Training Administration

[TA-W-72,587]

Raleigh Film and Television Studios, LLC, Los Angeles, CA; Notice of Affirmative Determination Regarding Application for Reconsideration

By application dated January 24, 2010, the petitioner requested administrative reconsideration of the negative determination regarding workers' eligibility to apply for Trade Adjustment Assistance (TAA) applicable to workers and former workers of Raleigh Film and Television Studios, LLC, Los Angeles, California (the subject firm). The Notice of determination was issued on January 14, 2010 and published in the Federal Register on February 16, 2010 (75 FR 7039). The workers provide sound stages, production, office space, catering, security, and other services to the entertainment production industry.

The initial investigation resulted in a negative determination based on the findings that there was, during the relevant period, no increase in imports of services like or directly competitive with those supplied by the workers by either the subject firm or its customers, nor a shift to/acquisition from a foreign country by the subject firm of like or directly competitive services. The investigation also revealed that the workers did not produce a component part or supply a service that was directly used by a firm that employed a worker group eligible to apply for TAA.

The request for reconsideration alleges that the subject firm “is actively building large film studios in both Budapest, Hungary and Khazastan.”

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26900 Filed 10-22-10; 8:45 am]

BILLING CODE 4510-FN-P